DEPARTMENT OF HOMELAND SECURITY

[Docket No. DHS-2015-0070]

Infrastructure Protection Gateway Facility Surveys

AGENCY: National Protection and Programs Directorate, DHS.

ACTION: 60-day notice and request for comments; Existing collection in use without an OMB Control Number: 1670—NEW.

SUMMARY: The Department of Homeland Security (DHS), National Protection and Programs Directorate (NPPD), Office of Infrastructure Protection (IP), Infrastructure Information Collection Division (IICD), Infrastructure Protection Gateway Program will submit the following Information Collection Request to the Office of Management and Budget (OMB) for review and clearance in accordance with the Paperwork Reduction Act of 1995 (Pub. L. 104-13, 44 U.S.C. Chapter 35).

DATES: Comments are encouraged and will be accepted until January 11, 2016. This process is conducted in accordance with 5 CFR 1320.1.

ADDRESSES: Written comments and questions about this Information Collection Request should be forwarded to DHS/NPPD/IP/IICD, 245 Murray Lane SW., Mail Stop 0602, Arlington, VA 20598-0602. Emailed requests should go to Kimberly Sass, Kimberly.Sass@hq.dhs.gov. Written comments should reach the contact person listed no later than January 11, 2016. Comments must be identified by “DHS-2015-0070”and may be submitted by one of the following methods:

• Federal eRulemaking Portal: http://www.regulations.gov.

• Email: Include the docket number in the subject line of the message.

Instructions: All submissions received must include the words “Department of Homeland Security” and the docket number for this action. Comments received will be posted without alteration at http://www.regulations.gov, including any personal information provided.

SUPPLEMENTARY INFORMATION: Under the direction of Homeland Security Presidential Directive-7 (HSPD-7) (2003), DHS/NPPD/IP has developed the IP Gateway—a centrally managed repository of infrastructure capabilities allowing the Critical Infrastructure (CI) community to work in conjunction with each other toward the same goals. This collection involves the standardized recording, via a series of web-based forms, of a significant amount of information assembled during voluntary physical facility review surveys. The survey is used to analyze risks and vulnerabilities to a facility and how they can mitigate risks and vulnerabilities. Questions focus on whether specific sets of controls and operational best practices are planned, defined, implemented, measured, managed, and assessed on a regular basis across all aspects of facility use and operation. Surveys are usually completed by government personnel, but can be performed by individual site owners as well. OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Office of Infrastructure Protection, Infrastructure Information Collection Division, Infrastructure Protection Gateway Program.

Title: Infrastructure Protection (IP) Gateway Facility Surveys.

OMB Number: 1670—NEW.

Frequency: Annually, quarterly, and monthly.

Affected Public: Chief Information Officers, Chief Information Security Officers, Chief Technology Officers, and Federal and State, Local, Tribal and Territorial communities involved in the protection of CI.

Number of Respondents: 2,915 respondents (estimate).

Estimated Time per Respondent: 7.5 hours.

Total Burden Hours: 21,863 annual burden hours.

Total Burden Cost (capital/startup): $0.

Total Recordkeeping Burden: $0.

Total Burden Cost (operating/maintaining): $1,168,795.98 (estimate).

Dated: October 30, 2015.
Scott Libby,
Deputy Chief Information Officer, National Protection and Programs Directorate, Department of Homeland Security.

[FR Doc. 2015-28679 Filed 11-10-15; 8:45 am]

BILLING CODE 9110-9P-P